DEPARTMENT OF LABOR

Pension and Welfare Benefits Administration

Agency Information Collection Activities; Announcement of OMB Approval

AGENCY: Pension and Welfare Benefits Administration, Department of Labor.

ACTION: Notice.

SUMMARY: The Pension and Welfare Benefits Administration (PWBA) is announcing that collections of information included in its Regulation-Definition of “Plan Assets”—Participant Contributions and its Prohibited Transaction Exemptions 78-6, 91-38, 76-1 and 77-10, 90-1, and 94-20 have been approved by the Office of Management and Budget (OMB) under the Paperwork Reduction Act of 1995. This notice announces the OMB approval numbers and expiration dates.

FOR FURTHER INFORMATION CONTACT: Address requests for copies of the information collection requests (ICRs) to Gerald B. Lindrew, U.S. Department of Labor, Pension and Welfare Benefits Administration, 200 Constitution Avenue, NW. Room N-5647, Washington, DC, 20210. Telephone: (202) 219-4782. This is not a toll-free number.

SUPPLEMENTARY INFORMATION: In the Federal Register of January 18, 2000 (65 FR 2647), the Agency announced its intent to request renewal of its current OMB approval for the information collection provisions of the Regulation-Definition of “Plan Assets”—Participant Contributions (29 CFR 2510.3-102). In accordance with the Paperwork Reduction Act of 1995 (44 U.S.C. 3501-3520) (PRA 95), OMB has renewed its approval for the information collection request (ICR) under OMB control number 1210-0100. The approval expires 05/31/2003.

In the Federal Register of January 24, 2000 (65 FR 3741), the Agency announced its intent to request renewal of its current OMB approval for the information collection provisions of Prohibited Transaction Class Exemption 78-6 (Transactions Involving Collectively Bargained Multiple Employer Apprenticeship and Training Plans). In accordance with PRA 95, OMB has renewed its approval for the ICR under OMB control number 1210-0080. the approval expires 06/30/2003.

In the Federal Register of January 27, 2000 (65 FR 4442), the Agency announced its intent to request renewal of its current OMB approval for the information collection provisions of Prohibited Transaction Class Exemption 91-38 (Bank Collective Investment Funds). In accordance with PRA 95, OMB has renewed its approval for the ICR under OMB control number 1210-0082. The approval expires 06/30/2003.

In the Federal Register of January 26, 2000 (65 FR 4264), the Agency announced its intent to request renewal of its current OMB approval for the information collection provisions of Prohibited Transaction Class Exemption 76-1 (Transactions Involving Multiemployer or Multiple Employer Plans) with a revision to incorporate the information collection provisions of Prohibited Transaction Class Exemption 77-10 (Transaction Involving Multiple Employer Plans) into the same request. In accordance with PRA 95, OMB has renewed its approval for the revised ICR under OMB control number 1210-0058. The approval expires 06/30/2003.

In the Federal Register of January 26, 2000 (65 FR 4262), the Agency announced its intent to request renewal of its current OMB approval for the information collection provisions of Prohibited Transaction Class Exemption 90-1 (Pooled Separate Accounts). In accordance with PRA 95, OMB has renewed its approval for the ICR under OMB control number 1210-0083. The approval expires 06/30/2003.

In the Federal Register of January 26, 2000 (65 FR 4263), the Agency announced its intent to request renewal of its current OMB approval for the information collection provisions of Prohibited Transaction Class Exemption 94-20 (Purchases and Sales of Foreign Currencies). In accordance with PRA 95, OMB has renewed its approval for the ICR under OMB control number 1210-0085. The approval expires 06/30/2003.

Under 5 CFR 1320.5(b), an Agency may not conduct or sponsor, and a person is not required to respond to, a collection of information unless the collection of information displays a valid control number.

Dated: June 21, 2000.
Gerald B. Lindrew,
Deputy Director, Office of Policy and Research, Pension and Welfare Benefits Administration.

[FR Doc. 00-16323 Filed 6-27-00; 8:45 am]

BILLING CODE 4510-29-M